DEPARTMENT OF COMMERCE

National Oceanic and Atmospheric Administration

RIN 0648-XC806

Pacific Fishery Management Council; Notice of Intent

AGENCY: National Marine Fisheries Service (NMFS), National Oceanic and Atmospheric Administration (NOAA), Commerce.

ACTION: Notice of intent to prepare an environmental impact statement (EIS); request for comments; notice of public scoping meetings.

SUMMARY: NMFS and the Pacific Fishery Management Council (Council) announce their intent to prepare an EIS in accordance with the National Environmental Policy Act (NEPA) of 1969 to analyze the long-term impacts on the human (biological, physical, social, and economic) environment of setting harvest specifications (including Overfishing Limits (OFLs), Acceptable Biological Catches (ABCs), and Annual Catch Limits (ACLs)) and management measures, and implementing harvest specifications and management measures in Federal regulations for 2015 and 2016, pursuant to the Pacific Coast Groundfish Fishery Management Plan.

DATES: Public scoping will be conducted through regular meetings of the Pacific Fishery Management Council and its advisory bodies continuing through the June 2014 meeting (see http://www.pcouncil.org/council-operations/council-meetings/future-meetings/). Written, faxed or emailed comments must be received by 5 p.m. Pacific Daylight time on September 23, 2013 (see SUPPLEMENTARY INFORMATION).

ADDRESSES: You may submit comments on issues and alternatives, identified by 0648-XC806 by any of the following methods:

• Email: GroundfishSpex2015-16@noaa.gov. Include RIN 0648-XC806 and enter Scoping Comments in the subject line of the message.

• Fax: 503-820-2299, Attention Kit Dahl.

• Mail: Dr. Donald McIsaac, Pacific Fishery Management Council, 7700 NE Ambassador Pl., Suite 101, Portland, OR, 97220, Attention Kit Dahl.

NMFS will accept anonymous comments. You may submit attachments to electronic comments in Microsoft Word, Excel, WordPerfect, or Adobe PDF file formats only.

FOR FURTHER INFORMATION CONTACT: Kit Dahl, Pacific Fishery Management Council, phone: 503-820-2280, fax: 503-820-2299 and email: kit.dahl@noaa.gov; or Sarah Biegel, NMFS Northwest Region NEPA; email: Sarah.T.Biegel@noaa.gov.

Electronic Access

This Federal Register document is available on the Government Printing Office's Web site at: www.gpoaccess.gov/fr/index/html.

SUPPLEMENTARY INFORMATION:

Background for Agency Action

There are more than 90 species managed under the Pacific Coast Groundfish Fishery Management Plan (Groundfish FMP). These groundfish stocks support an array of commercial, recreational, and Indian tribal fishing interests in state and Federal waters off the coasts of Washington, Oregon, and California. In addition, groundfish are also harvested incidentally in non-groundfish fisheries, most notably, the trawl fisheries for pink shrimp and California halibut.

The amount of each Pacific Coast groundfish species or species complex that is available for harvest in a specific year is referred to as an Annual Catch Limit (ACL). The groundfish fishery regulations also include a collection of management measures intended to keep the total catch of each groundfish species or species complex at or below the ACL. The groundfish harvest specifications and management measures are set at least biennially.

The Proposed Action

Using the “best available scientific information,” the proposed action is to establish harvest specifications every 2 years, including the overfishing limits (OFLs), acceptable biological catches (ABCs), and annual catch limits (ACLs) for each management unit, consistent with the policies and procedures the Council has established for these actions and the requirements of the Groundfish FMP; the Magnuson-Stevens Act (MSA)—particularly the 10 National Standards enumerated in § 301(a) of the MSA; and other applicable law.

Estimates of harvest specification values for a long-term period are used to evaluate environmental impacts into the future. Because harvest specifications must be based on the best available scientific information, and one or more new or updated stock assessments become available every 2 years, NMFS has determined that harvest specifications will be published in Federal regulations every 2 years for the subsequent 2-year period. However, the evaluation of the long-term impacts of setting harvest specifications and related management measures for the foreseeable future is intended to encompass the range of likely impacts that could occur over more than just the next biennial management period (2015-16).

Seven Pacific Coast groundfish species are currently “overfished” and managed under rebuilding plans implemented by secretarial amendment. Within the rebuilding plans, TTARGET is the key rebuilding parameter. TTARGET is the projected year by which an overfished species will be rebuilt. Any change to TTARGET must be demonstrated by the need to rebuild the stock in as short a time as possible, taking into account the status and biology of the stock, the needs of fishing communities, and the interaction of the stock within the marine ecosystem.

Every 2 years the Council will consider the best available scientific information (principally new or updated stock assessments) and determine whether it is necessary to adjust any of the existing harvest specifications or management measures necessary to achieve but not exceed ACLs. Adjustments to harvest specifications may involve changing the underlying harvest control rule. These adjustments must be consistent with the MSA and the Groundfish FMP.

In the absence of explicit Council action, harvest specification values based on default harvest control rules for one or more stocks may be published in Federal regulations. The Council is considering the establishment of criteria for determining these default rules through Amendment 24 to the Pacific Groundfish FMP, and these default rules may be part of this proposed action. During any biennial decision-making process, the Council may depart from these default values by deciding to modify the harvest control rule for one or more management unit.

Alternatives

NEPA requires that agencies evaluate reasonable alternatives to the proposed action in an EIS, which address the purpose and need for agency action. The Council is scheduled to adopt a preliminary range of alternatives for analysis and public review at its November 1-6, 2013, meeting. Alternatives use other methods to determine default harvest specifications. Related management measures, including allocation of fishing opportunity among various fishery participants, are also part of each alternative. In addition to choosing a preferred method for determining default harvest control rules, the Council may choose to modify the underlying harvest control rules for one or more stocks, resulting in an ACL different from the default value. Routine management measures, as defined in the Groundfish FMP, will be used unless a conservation need requires the adoption of a new management measure not previously described in Federal regulations. The alternatives may also include changes to current rebuilding plans if the best available scientific information shows that the objective of rebuilding the stock by TTARGET cannot be met with the current harvest control rule. The Council is scheduled to confirm its choice of a preferred alternative at its June 20-25, 2014, meeting.

Preliminary Identification of Environmental Issues

A principal objective of the scoping and public input process is to identify potentially significant impacts to the human environment that should be analyzed in depth in the EIS. If, during the preparation of this EIS, NMFS determines that a finding of no significant impact can be supported, it may prepare an Environmental Assessment (EA) and issue a retraction of this notice. Alternatively, NMFS may still continue with the preparation of an EIS. Information and analysis prepared for this action also may be used when scoping future groundfish harvest specifications and management measure actions to help decide whether to prepare an EA or EIS.

Public Scoping Process

Public scoping will occur throughout the Council's decision-making process. All decisions during the Council process benefit from written and oral public comments delivered prior to or during the Council meeting. These public comments are considered integral to scoping for developing this EIS. Council meetings that offer opportunities for public involvement include: the September 12-17, 2013, meeting in Boise, Idaho (The Riverside Hotel—Boise, 2900 Chinden Blvd., Boise, ID 83714); the November 1-6, 2013 meeting in Costa Mesa, California (Hilton Orange County/Costa Mesa, 3050 Bristol Street, Costa Mesa, CA 92626); the April 5-10, 2014, meeting in Vancouver, Washington (Hilton Vancouver Washington, 301 W. Sixth Street, Vancouver, WA 98660); and the June 20-25, 2014, meeting in Garden Grove, California (Hyatt Regency Orange County, 11999 Harbor Blvd., Garden Grove, CA 92840). For further information on these meetings, visit the Council's Web site, http://www.pcouncil.org/council-operations/council-meetings/future-meetings/.

Special Accommodations

The meetings are physically accessible to people with disabilities. Requests for sign language interpretation or other auxiliary aids should be directed to Kris Kleinschmidt Kris.Kleinschmidt@noaa.gov (503)820-2280 at least 5 days prior to the meeting date.

Authority: 16 U.S.C. 1801 et seq.

Dated: August 19, 2013.
Emily H. Menashes,
Deputy Director, Office of Sustainable Fisheries, National Marine Fisheries Service.

[FR Doc. 2013-20523 Filed 8-21-13; 8:45 am]

BILLING CODE 3510-22-P